DEPARTMENT OF STATE

[Public Notice 6783]

Shipping Coordinating Committee; Notice of Meeting

The Shipping Coordinating Committee (SHC) will conduct an open meeting at 9:30 a.m. on Friday, November 13, 2009, in Room 1303 of the United States Coast Guard Headquarters Building, 2100 Second Street, SW., Washington, DC 20593-0001. The primary purpose of the meeting is to prepare for the twenty sixth Session of the International Maritime Organization (IMO) Assembly (A 26) to be held at the IMO Headquarters, United Kingdom from November 23 to December 4, 2009 and the twenty fifth Session of the IMO Council Extraordinary Session (C ES 25) to be held at the IMO Headquarters, United Kingdom, from November 19 to November 20, 2009.

The primary matters to be considered include:

Twenty-Sixth Session of Assembly

1. Adoption of the agenda.

2. Election of the President and the Vice-Presidents of the Assembly.

3. Consideration of proposed amendments to the Rules of Procedure of the Assembly.

4. Application of Article 61 of the IMO Convention. Report of the Council to the Assembly on any requests by Members for waiver.

5. Establishment of committees of the Assembly.

6. Consideration of the reports of the committees of the Assembly.

7. Report of the Council to the Assembly on the work of the Organization since the twenty-fifth regular session of the Assembly.

8. Strategy and planning.

9. Voluntary IMO Member State Audit Scheme.

10. Consideration of the reports and recommendations of the Maritime Safety Committee.

11. Consideration of the reports and recommendations of the Legal Committee.

12. Consideration of the reports and recommendations of the Marine Environment Protection Committee.

13. Consideration of the reports and recommendations of the Technical Co-operation Committee.

14. Consideration of the reports and recommendations of the Facilitation Committee.

15. Report on the 2009 International Conference on the Safe and Environmentally Sound Recycling of Ships.

16. Convention on the Prevention of Marine Pollution by Dumping of Wastes and Other Matters.

17. Resource management.

18. Maritime training programmes.

19. External relations.

20. Report on the status of the Convention and membership of the Organization.

21. Report on the status of conventions and other multilateral instruments in respect of which the Organization performs functions.

22. Election of Members of the Council, as provided for in Articles 16 and 17 of the IMO Convention.

23. Election of Members of the IMO Staff Pension Committee.

24. Date and place of the twenty-seventh regular session of the Assembly.

Twenty-Fifth Extraordinary Session of Council

1. Adoption of the agenda.

2. Report of the Secretary-General on credentials.

3. Strategy and planning.

4. Organizational reforms.

5. Resource management:

6. Voluntary IMO Member State Audit Scheme.

7. Results-based budget for the twenty-sixth financial period 2010-2011.

8. Consideration of the report of the Marine Environment Protection Committee.

9. Consideration of the report of the Legal Committee.

10. Report on the 31st Consultative Meeting of Contracting Parties to the London Convention 1972 and the 4th Meeting of Contracting Parties to the 1996 Protocol to the London Convention.

11. World Maritime University.

12. Protection of vital shipping lanes.

13. Report of the Council to the Assembly on the work of the Organization since the twenty-fifth regular session of the Assembly.

14. External relations:

15. Report on the status of the Convention and membership of the Organization.

16. Report on the status of conventions and other multilateral instruments in respect of which the Organization performs functions.

17. Supplementary agenda items, if any.

Members of the public may attend this meeting up to the seating capacity of the room. To facilitate the building security process, those who plan to attend should contact the meeting coordinator; LCDR Jason Smith by e-mail at jason.e.smith2@uscg.mil, by phone at (202) 372-1376, by fax at (202) 372-1925, or in writing at Commandant (CG-5212), U.S. Coast Guard Headquarters, 2100 2nd Street, SW., Room 1308, Washington, DC 20593-0001 not later than 72 hours before the meeting. Please note that due to security considerations, two valid, government issued photo identifications must be presented to gain entrance to the Headquarters building. The Headquarters building is accessible by taxi and privately owned conveyance (public transportation is not generally available). However, parking in the vicinity of the building is extremely limited.

This announcement might appear in the Federal Register less than 15 days prior to the meeting. The Department of State finds that there is an exceptional circumstance in that this advisory committee meeting must be held on November 13th in order to prepare for the IMO Assembly to be convened on November 23rd.

Dated: October 23, 2009.
J. Trent Warner,
Executive Secretary, Shipping Coordinating Committee, Department of State.

[FR Doc. E9-26317 Filed 10-30-09; 8:45 am]

BILLING CODE 4710-09-P